DEPARTMENT OF COMMERCE

National Oceanic and Atmospheric Administration

50 CFR Part 635

[I.D. 051701H]

Atlantic Highly Migratory Species; Scoping Workshop

AGENCY: National Marine Fisheries Service (NMFS), National Oceanic and Atmospheric Administration (NOAA), Commerce.

ACTION: Notice of scoping workshop.

SUMMARY: NMFS will hold a scoping workshop on June 14, 2001, to discuss options for development of a statistical documentation program for Atlantic swordfish and bigeye tuna that is consistent with requirements of the International Commission for the Conservation of Atlantic Tunas (ICCAT).

DATES: The workshop will be held on Thursday, June 14, 2001, from 1 p.m. to 5 p.m.

ADDRESSES: The scoping workshop will be held at the NOAA Fisheries Headquarters, 1315 East-West Highway, Room 7836, Silver Spring, MD 20910. Informational materials related to the workshop are available from Jill Stevenson, Highly Migratory Species Management Division, 9721 Executive Center Drive North, St. Petersburg, FL 33702, or on the Internet at www.nmfs.noaa.gov/sfa/hmspg.html.

FOR FURTHER INFORMATION CONTACT: Jill Stevenson at 727-570-5447 or by e-mail at jill.stevenson@noaa.gov.

SUPPLEMENTARY INFORMATION: The Atlantic highly migratory species (HMS) fisheries are managed under the authority of the Magnuson-Stevens Fishery Conservation and Management Act and the Atlantic Tunas Convention Act (ATCA). The Fishery Management Plan for Atlantic Tunas, Swordfish, and Sharks is implemented by regulations at 50 CFR part 635. ATCA requires NMFS to implement recommendations of ICCAT, if adopted by the United States.

At its 2000 meeting, ICCAT recommended that countries establish statistical documentation programs for swordfish and bigeye tuna, modeled in principle after the Bluefin Tuna Statistical Document (BSD) program, with the aim of having the program or programs fully implemented by January 1, 2002, or as soon as possible thereafter. The United States has offered to host a meeting of technical experts from ICCAT countries prior to the November 2001 ICCAT meeting.

In anticipation of the international meeting of technical experts, NMFS solicits comments and seeks to initiate a technical discussion of existing trade documentation programs such as the BSD program and the Swordfish Certificate of Eligibility program, in light of ICCAT’s recommendation that countries endeavor to harmonize all statistical document programs under their purview.

Agenda items for the scoping meeting will include:

1. Discussion of existing trade documentation programs;

2. Development of potential options for harmonization of existing and new programs; and

3. Discussion of related issues, such as enforcement issues, electronic filing of documents, validation of documentation, and other issues.

Alternative Attendance Option

NMFS recognizes that it may be difficult for interested constituents to attend this scoping meeting in Silver Spring, MD and is providing access to the meeting via conference call. The call will be a toll-free dial-in system with a limited number of ports, assigned on a first-come, first-served basis. To participate in this meeting via telephone, please contact Jill Stevenson of the Highly Migratory Species Division (see FOR FURTHER INFORMATION CONTACT) no later than June 11, 2001.

Special Accommodations

This meeting is physically accessible to people with disabilities. Requests for sign language interpretation or other auxiliary aids should be directed to Jill Stevenson (see FOR FURTHER INFORMATION CONTACT) at least 7 days prior to the meeting.

Dated: May 24, 2001.
Richard W. Surdi,
Acting Director, Office of Sustainable Fisheries, National Marine Fisheries Service.

[FR Doc. 01-13678 Filed 5-30-01; 8:45 am]

BILLING CODE 3510-22-S